EXPORT-IMPORT BANK OF THE UNITED STATES

Economic Impact Policy

This notice is to inform the public that the Export-Import Bank of the United States has received an application for a $4.3 billion direct loan to support the export of approximately $3.3 billion in U.S. equipment and services to establish a new petrochemical facility in Saudi Arabia.

The U.S. exports will enable the facility to produce approximately: 750,000 metric tons of linear low density polyethylene (LLDPE); 350,000 metric tons of linear density polyethylene (LDPE); 250,000 metric tons of elastomers; 200,000 metric tons of glycol ethers; 70,000 metric tons of propylene glycol (MPG); 208,000 metric tons of ethanolamines and ethyleneamines; 400,000 metric tons of polyether polyols; 200,000 metric tons of toluene diisocyanate (TDI); and 400,000 metric tons of polymeric methyl diphenyl diisocyanate (PMDI). Initial production at this facility is expected to be phased in from 2016 to 2018.

Available information indicates the Saudi petrochemical producer plans to sell its products as follows: The majority of LDPE, LLDPE and glycol ethers will be sold primarily in the Asia-Pacific market, and the balance will be sold in the Europe, Middle East and Africa markets; the majority of elastomers, TDI, PMDI, and polyether polyols will be sold primarily in Asia-Pacific, Europe, Middle East and Africa markets and minority will be sold in the North and Latin America; approximately equal volumes of MPG will be sold primarily in Asia-Pacific, Europe, Middle East and Africa markets; and approximately equal volumes of ethanolamines and ethyleneamines will be sold globally.

Interested parties may submit comments on this transaction by email to economic.impact@exim.gov or by mail to 811 Vermont Avenue NW., Room 947, Washington, DC 20571, within 14 days of the date this notice appears in the Federal Register.

Angela Mariana Freyre,
Senior Vice President and General Counsel.

[FR Doc. 2012-11953 Filed 5-16-12; 8:45 am]

BILLING CODE 6690-01-P